DEPARTMENT OF THE INTERIOR

Minerals Management Service

[Docket no. MMS-2010-OMM-0008]

MMS Information Collection Activity: 1010-0114, Subpart A—General, Revision of a Collection; Comment Request

AGENCY: Minerals Management Service (MMS), Interior.

ACTION: Notice of revision of an information collection (1010-0114).

SUMMARY: To comply with the Paperwork Reduction Act of 1995 (PRA), MMS is inviting comments on a collection of information that we will submit to the Office of Management and Budget (OMB) for review and approval. The information collection request concerns the paperwork requirements in the regulations under 30 CFR 250, subpart A, “General.”

DATES: Submit written comments by May 21, 2010.

FOR FURTHER INFORMATION CONTACT: Cheryl Blundon, Regulations and Standards Branch at (703) 787-1607. You may also contact Cheryl Blundon to obtain a copy, at no cost, of the regulations and the forms that require the subject collection of information.

ADDRESSES: You may submit comments by either of the following methods listed below.

• Electronically: go to http://www.regulations.gov. In the entry titled “Enter Keyword or ID,” enter docket ID MMS-2010-OMM-0008 then click search. Follow the instructions to submit public comments and view supporting and related materials. The MMS will post all comments.

• Mail or hand-carry comments to the Department of the Interior; Minerals Management Service; Attention: Cheryl Blundon; 381 Elden Street, MS-4024; Herndon, Virginia 20170-4817. Please reference Information Collection 1010-0114 in your comment and include your name and return address.

SUPPLEMENTARY INFORMATION: Title: 30 CFR 250, subpart A, General.

Form(s): MMS-132, MMS-143, MMS-1123, and MMS-1832.

OMB Control Number: 1010-0114.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations in the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Under the Department of the Interior's (DOI) implementing policy, the Minerals Management Service (MMS) is required to charge fees for services that provide special benefits or privileges to an identifiable non-Federal recipient above and beyond those which accrue to the public at large.

This information collection request covers 30 CFR 250, Subpart A, General. This request also covers the related Notices to Lessees and Operators (NTLs) that MMS issues to clarify and provide additional guidance on some aspects of our regulations.

Requests for MMS approval may contain proprietary information related to performance standards or alternative approaches to conducting operations different from those approved and specified in MMS regulations. We will protect this proprietary information according to the Freedom of Information Act (5 U.S.C. 552), its implementing regulations (43 CFR 2), 30 CFR 252, and 30 CFR 250.197, “Data and information to be made available to the public or for limited inspection.” No items of a sensitive nature are collected. Responses are mandatory.

The MMS uses the information collected under the Subpart A regulations to ensure that operations in the OCS are carried out in a safe and pollution-free manner, do not interfere with the rights of other users in the OCS, and balance the protection and development of OCS resources. Specifically, we use the information collected to:

• Review records of formal crane operator training, rigger training, crane operator qualifications, crane inspections, testing, and maintenance to ensure that lessees perform operations in a safe and workmanlike manner and that equipment is maintained in a safe condition. The MMS also uses the information to make certain that all new and existing cranes installed on OCS fixed platforms must be equipped with anti-two block safety devices, and to assure that uniform methods are employed by lessees for load testing of cranes.

• Review welding, burning, and hot tapping plans, procedures, and records to ensure that these activities are conducted in a safe and workmanlike manner by trained and experienced personnel.

• Provide lessees greater flexibility to comply with regulatory requirements through approval of alternative equipment or procedures and departures to regulations if they demonstrate equal or better compliance with the appropriate performance standards.

• Determine the capability of a well to produce oil or gas in paying quantities or to determine the possible need for additional wells resulting in minimum royalty status on a lease. If a well does not yield hydrocarbons in sufficient quantity to warrant continued operation and production, MMS uses the information to verify the claim and to release the lessee from lease obligations. Conversely, the information is used to extend the term of the lease if additional wells will warrant continued operation and production.

• Ensure that injection of gas promotes conservation of natural resources, prevents waste, and that subsurface storage of natural gas does not unduly interfere with development and production operations under existing leases.

• Ensure the appropriateness of reimbursing lessees for costs incurred in reproducing geological and geophysical (G&G) data and information for submission to MMS and processing or reprocessing G&G information in a form and manner other than that normally used in the conduct of a lessee's business, or to determine the proper reimbursement of costs incurred during inspections.

• Record the designation of an operator authorized to act on behalf of the lessee and to fulfill the lessee's obligations under the OCS Lands Act and implementing regulations, or to record the local agent empowered to receive notices and comply with regulatory orders issued (Form MMS-1123).

• Determine if an application for right-of-use and easement serves the purpose specified in the grant when conducting exploration, development, and production activities or other operations on or off the lease; is maintained for such purposes; and does not unreasonably interfere with the operations of any other lessee.

• Provide for orderly development of leases through the use of information to determine the appropriateness of lessee requests for suspension of operations, including production. For example, MMS needs the information to determine that a suspension is necessary to: (1) Ensure proper lease development, (2) allow time to construct or negotiate use of transportation facilities, (3) allow reasonable time to enter into a sales contract, (4) allow for unavoidable situations, (5) avoid continued operations resulting in premature abandonment of a producing well(s) that would be uneconomic, (6) comply with the National Environmental Policy Act or to conduct an environmental analysis, (7) install equipment for safety and environmental protection, (8) allow time for inordinate delays encountered in obtaining required permits or consents, (9) comply with judicial decrees, or (10) avoid activities that pose a threat of serious, irreparable, or immediate harm.

• Improve safety and environmental protection in the OCS through collection and analysis of accident reports to ascertain the cause of the accidents and to determine ways to prevent recurrences.

• Ascertain when the lease ceases production or when the last well ceases production in order to determine the 180th day after the date of completion of the last production. This includes reporting when lease production is initiated, resumes before the end of the 180-day period after production ceased, and when lease holding operations occur during the referenced 180-day interval. The MMS will use this information to efficiently maintain the lessee/operator lease status.

• Approve requests to cancel leases.

• Be informed when there could be a major disruption in the availability and supply of natural gas and oil due to natural occurrences/hurricanes, to advise the U.S. Coast Guard (USCG) in case of the need to rescue offshore workers in distress, to monitor damage to offshore platforms and drilling rigs, and to advise the news media and interested public entities when production is shut in and when resumed. The OCS operations produce more than one-quarter of the Nation's natural gas and more than one-sixth of its oil, and it is essential to know when production is interrupted. The Gulf of Mexico Region (GOMR) uses a reporting form for respondents to report evacuation statistics when necessary (Form MMS-132, Evacuation Statistics). It is sent to respondents at the onset of each “hurricane season” in the GOMR.

• Form MMS-143, Facility/Equipment Damage Report, assists lessees, lease operators, and pipeline right-of-way holders when reporting damage by a hurricane, earthquake, or other natural phenomenon. They are required to submit an initial damage report to the Regional Supervisor within 48 hours after completing the initial evaluation of the damage and then subsequent reports, monthly and immediately, whenever information previously submitted changes until the damaged structure or equipment is returned to service.

• Allow operators who exhibit unacceptable performance an incremental approach to improving their overall performance prior to a final decision to disqualify an operator or to pursue debarment proceedings through the execution of a performance improvement plan (PIP). The Subpart A regulations do not address the actual process that we will follow in pursuing the disqualification of operators under §§ 250.135 and 250.136. However, our internal enforcement procedures include allowing such operators to demonstrate a commitment to acceptable performance by the submission of a PIP.

• Determine that respondents have corrected all Incidents of Non-Compliance (INC)(s) identified during inspections (Form MMS-1832). The MMS issues this form to the operator. The operator then corrects the INC(s) and returns the form to the MMS Regional Supervisor no later than 14 days.

• Review records of crane inspection, testing, maintenance, and crane operator qualifications to ensure that lessees perform operations in a safe and workmanlike manner and maintain equipment in a safe condition.

Frequency: Primarily on occasion; monthly; form MMS-132, Evacuation Statistics submitted daily during the emergency situation.

Description of Respondents: Federal, State, oil, gas, or sulphur lessees and/or operators.

Estimated Reporting and Recordkeeping Hour Burden: The currently approved annual reporting burden for this collection is 36,739 hours. The following chart details the individual components and respective hour burden estimates of this information collection request. In calculating the burdens, we assumed that respondents perform certain requirements in the normal course of their activities. We consider these to be usual and customary and took that into account in estimating the burden.

Citation 30 CFR 250 Subpart A and related forms/NTLs | Reporting or recordkeeping requirement | Hour burden: Non-hour cost burdens
Authority and Definition of Terms
104; 181; Form MMS-1832 | Appeal orders or decisions; appeal INCs; request hearing due to cancellation of lease | Exempt under 5 CFR 1320.4(a)(2), (c).
Performance Standards
109(a); 110 | Submit welding, burning, and hot tapping plans | 2
115; 116 | Request determination of well producibility; make available or submit data & information; notify MMS of test | 5
118; 119; 121; 124 | Apply for injection or subsurface storage of gas; sign storage agreement | 10
Cost Recovery Fees
125; 126 | Cost Recovery/Service Fees; confirmation receipt etc., verbal approvals pertaining to fees (these requirements and associated items are covered individually throughout this subpart) | 0
Forms
130-133; Form MMS-1832 | Submit “green” response copy of Form MMS-1832 indicating date violations (INCs) corrected | 2
143 | Report change of address; submit designation of local agent (requirements not considered IC under 5 CFR 1320.3(h)(1) | 0
143; 144; 145; Form MMS-1123 | Submit designation of operator (Form MMS-1123-15 mins. only); notice of termination; include pay.gov confirmation receipt | 1 $164 per application.
192; Form MMS-132 | Daily report of evacuation statistics for natural occurrence/hurricane (Form MMS-132 in the GOMR) when circumstances warrant; inform MMS when you resume production | 1
192(b) | Use Form MMS-143 to submit an initial damage report to the Regional Supervisor | 4
192(b) | Use Form MMS-143 to submit subsequent damage reports on a monthly basis until damaged structure or equipment is returned to service; immediately when information changes; date item returned to service must be in final report | 1
Inspection of Operations
130-133 | Request reconsideration from issuance of an INC | 2
| Request waiver of 14-day response time | 1
| Notify MMS before returning to operations if shut-in. | .5
133 | Request reimbursement for food, quarters, and transportation provided to MMS representatives (OCS Lands Act specifies reimbursement; no requests received in many years; minimal burden) | 2
Disqualification
135 MMS internal process | Submit PIP under MMS implementing procedures for enforcement actions | 40
Special Types of Approval
140 | Request various oral approvals not specifically covered elsewhere in regulatory requirements | 1
140(c) | Submit letter when stopping approved flaring with required information | Burden covered under 1010-0041.
141; 198 | Request approval to use new or alternative procedures, including BAST not specifically covered elsewhere in regulatory requirements | 20
142; 198 | Request approval of departure from operating requirements not specifically covered elsewhere in regulatory requirements | 3
Naming and Identifying Facilities and Wells (Does Not Include MODUs)
150; 151; 152; 154(a) | Name and identify facilities, artificial islands, MODUs, helo landing facilities etc., with signs | 2
150; 154(b) | Name and identify wells with signs | 1
Right-of-use and Easement
160; 161; 123 | OCS lessees: Apply for new or modified right-of-use and easement to construct and maintain off-lease platforms, artificial islands, and installations and other devices; including notifications | 10
160(c) | Establish a Company File for qualification; submit updated information, submit qualifications for lessee/bidder, request exception | Burden covered under 1010-0006.
165; 123 | State lessees: Apply for new or modified right-of-use and easement to construct and maintain off-lease platforms, artificial islands, and installations and other devices; include pay.gov confirmation | 5 $2,569 per state lease.
166 | State lessees: Furnish surety bond; additional security if required | Burden covered under 1010-0006.
Suspensions
168; 170; 171; 172; 174; 175; 177; 180(b), (d) | Request suspension of operations or production; submit schedule of work leading to commencement | 10 $1,968 per request.
| Submit progress reports on SOO or SOP as condition of approval | 3
172(b); 177(a) | Conduct site-specific study; submit results. No instances requiring this study in several years—could be necessary if a situation occurred such as severe damage to a platform or structure caused by a hurricane or a vessel collision | 100
177(b), (c), (d); 182; 183, 185; 194 | Various references to submitting new, revised, or modified exploration plan, development/production plan, or development operations coordination document, and related surveys/reports | Burden covered under 1010-0151.
Primary Lease Requirements, Lease Term Extensions, and Lease Cancellations
180(a), (f), (g), (h), (i), (j) | Notify and submit report on various lease holding operations and lease production activities | 2
180(a), (b), (c) | When requested, submit production data to demonstrate production in paying quantities to maintain lease beyond primary term | 6
180(e) | Request more than 180 days to resume operations | 5
181(d); 182(b), 183(b)(2) | Request termination of suspension and cancellation of lease (no requests in recent years for termination/cancellation of a lease; minimal burden) | 20
184 | Request compensation for lease cancellation mandated by the OCS Lands Act (no qualified lease cancellations in many years; minimal burden compared to benefit) | 50
Information and Reporting Requirements
186 | Submit information and reports as MMS requires | 10
187; 188(a); 189; 190(c) | Report to the District Manager immediately via oral communication and written follow-up within 15 calendar days, incidents pertaining to: Fatalities; injuries; LoWC; fires; explosions; all collisions resulting in property or equipment damage >$25K; structural damage to an OCS facility; cranes; incidents that damage or disable safety systems or equipment (including firefighting systems). If requested, submit copy marked as public information | Oral .5. Written 4.
187(d) | Report all spills of oil or other liquid pollutants | Burden covered under 1010-0091.
188(a)(5) | Report to District Manager hydrogen sulfide (H2S) gas releases immediately by oral communication | Burden covered under 1010-0141.
188(b); 190(a), (b) | Provide written report to the District Manager within 15 calendar days after incidents relating to: Injuries that result in 1 or more days away from work, on restricted work, or job transfer; gas releases that initiate equipment or process shutdown; property or equipment damage >$25K; operations personnel to muster for evacuation not related to weather or drills; any additional information required | 4
191 | Submit written statement/Request compensation mileage + services for testimony re: Accident investigation | Exempt under 5 CFR 1320.4(a)(2), (c).
193 | Report apparent violations or non-compliance | 1.5
194 NTL exception requests | Request departures from conducting archaeological resources surveys and/or submitting reports in GOMR | 1
194(c) | Report archaeological discoveries (only one instance in many years; minimal burden) | 10
195 | Notify District Manager within 5 workdays of putting well in production status (usually oral). Follow-up with either fax/email within same 5 day period (burden includes oral and written) | 1
196 | Submit data/information for post-lease G&G activity and request reimbursement | Burden covered under 1010-0048.
197(c) | Submit confidentiality agreement | 1
101-199 | General departure or alternative compliance requests not specifically covered elsewhere in Subpart A | 2
Recordkeeping
108(e) | Retain records of design and construction for life of crane, including installation records for any anti-two block safety devices; all inspection, testing, and maintenance for at least 4 years; crane operator and all rigger personnel qualifications for at least 4 years | 2
109(b); 113(c) | Retain welding, burning, and hot tapping plan for the life of the facility; keep plan and drawings of safe-welding areas at site; designated person advises in writing that it is safe to weld | .5
132(b)(3) | During inspections make records available as requested by inspectors | 2

Estimated Reporting and Recordkeeping Non-Hour Cost Burden: The currently approved non-hour cost burden for this collection is $810,200. We have identified three non-hour cost burdens. Section 250.143 requires a fee for a change in designation of operator. Section 250.165 requires a State lessee applying for a right-of use and easement in the OCS to pay a cost recovery application fee. This cost is the same as the fee for a pipeline right-of-way grant specified in 30 CFR 250.1015 and is subject to change based on that regulation. We estimate receiving only one State lease application per year. Section 250.171 requests a fee for either a Suspension of Operations or Production Request (SOO/SOP). We have not identified any other non-hour paperwork cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: March 10, 2010.
Sharon Buffington,
Acting Chief, Office of Offshore Regulatory Programs.

[FR Doc. 2010-6106 Filed 3-19-10; 8:45 am]

BILLING CODE 4310-MR-P